DEPARTMENT OF AGRICULTURE

Agricultural Marketing Service

[Document Number FV-09-0043]

United States Standards for Grades of Cultivated Ginseng

AGENCY: Agricultural Marketing Service, USDA.

ACTION: Final Notice.

SUMMARY: The Agricultural Marketing Service (AMS), of the Department of Agriculture (USDA), is revising the voluntary United States Standards for Grades of Cultivated Ginseng. AMS received a request from the Ginseng Board of Wisconsin (GBW), to amend the standards to reflect current market values. To ensure the integrity of the standards, the revisions will be based on quality and percentage defects. The new grades will replace the current ones and promote the orderly and efficient marketing of ginseng in an evolving global economy. Other changes will include a revised General Section, new tolerances, reclassified sizes, removed table “values” and amended definitions. These revisions are needed to determine and complement the new grades.

DATES: Effective Date: May 7, 2012.

FOR FURTHER INFORMATION CONTACT: Dr. Carl Newell, Standardization and Training Branch, Fresh Products Division, (540) 361-1120. The United States Standards for Grades of Cultivated Ginseng are available through the Fresh Products Division Web site at http://www.ams.usda.gov/freshinspection.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs, and are available on the internet at www.ams.usda.gov/freshinspection.

AMS is revising the voluntary United States Standards for Grades of Cultivated Ginseng using procedures that appear in Part 36, Title 7 of the Code of Federal Regulations (7 CFR part 36).

Background

AMS received a request from the GBW on June 8, 2009, to revise the United States Standards for Grades of Cultivated Ginseng. The GBW represents approximately 95% of the cultivated ginseng industry in the U.S. The initial inquiry requested AMS to add “unless otherwise specified” to the size table to accommodate changing market values. AMS believed that by allowing any specified value would undermine the integrity of the standards. To resolve the issue, AMS met with members of the GBW to revise the standards and develop new grades based solely on quality and percentage defects. AMS then initiated the revision process and continued to work closely with the GBW on the proposed standards through electronic communication and site visits. On August 30, 2011, AMS published a notice in the Federal Register (76 FR 53875), soliciting comments on a possible revision of the United States Standards for Grades of Cultivated Ginseng. The public comment period closed on September 29, 2011, with no responses.

Based on the information gathered, AMS believes the revisions will bring the standards for cultivated ginseng in line with current marketing practices and thereby improve their usefulness. Therefore, AMS will revise the standards as follows:

The General Section will clarify that the standards apply to cultivated ginseng, such as American ginseng (Panax quinquefolius) and Asian ginseng (Panax ginseng), but not to wild ginseng.

The U.S. Premium, U.S. Select, U.S. Medium, and U.S. Standard grades will be replaced with U.S. No. 1, U.S. No. 2, U.S. No. 3, U.S. No. 4, U.S. No. 5, U.S. No. 6, and U.S. No. 7.

All the sizes for diameter and length are revised with the following Whole Root Size Categories: Premium, Select, and Standard.

The External Color Section is revised to include: “Color shall be applied to the lot as a whole * * *” Further, the Wrinkle Section is renamed the Texture Section.

A Size Classification Determination Section will be added to provide procedures for determining size. Size will be determined first, followed by inspecting the ginseng for defects.

The formula for the Grade Determination Section is revised to reflect the percentage of defects in a lot.

The definition for “Whole Root” is revised to mean the main root or upper portion of the main root, including any portion growing off the main root that is too large to be a prong. Whole roots must have a tapered top or crown.

The definition for “Diameter” is revised to mean the greatest dimension at right angles to a line from the top of the whole root to the tip. Diameter shall not be measured at the point of attachment of a prong or the area where a prong was removed.

A definition for “Length” will be added to the standards, which means the greatest dimension of the whole root measured in a straight line parallel to the longitudinal axis from the top of the whole root to the tip, not including any portion of the crown or rootlet, if present.

The following terms and definitions will also be removed or revised: The definition for “Similar Varietal Characteristics” will be removed from the standards, since it will not be a requirement of the grade. The definition for “Prong” is revised to include: “A prong cannot exceed more than one half of the diameter of the main root.” The term “Fiber' will be renamed “Rootlet” and defined as small slender roots less than ⅛ inch in diameter. The term “rust” will be removed from the list of defects, since it is the same as discoloration. The definition for “Cull” will be revised to mean more than 50 percent of the whole root is unusable. The definition for “Defects' is revised to include: “In addition, when the cut area left by a clipped or removed prong exceeds one half of the diameter of the root, it shall be a defect.”

An illustration of a ginseng root will be added to the end of the standards, which define the parts of the root, areas to be clipped, and the correct determination for length and diameter.

Various section numbers will be changed to reflect these revisions, including a correction to the notice. The proposed section number for Grade Determination in the notice was “.1332” but will be corrected to “.1333.”

The official grade of a lot of cultivated ginseng covered by these standards will be determined by the procedures set forth in the Regulations Governing Inspection, Certification, and Standards of Fresh Fruits, Vegetables and Other Products (Sec. 51.1 to 51.61).

The United States Standards for Grades of Cultivated Ginseng will be effective 30 days after publication of this notice in the Federal Register.

Authority: 7 U.S.C. 1621—1627.

Dated: March 30, 2012.
Robert C. Keeney,
Acting Administrator, Agricultural Marketing Service.

[FR Doc. 2012-8135 Filed 4-4-12; 8:45 am]

BILLING CODE 3410-02-P